INTERNATIONAL TRADE COMMISSION

[Investigation No. 731-TA-722 (Review)]

Honey From China

AGENCY: United States International Trade Commission.

ACTION: Termination of five-year review.

SUMMARY: The subject five-year review was initiated in July 2000 to determine whether termination of the suspended antidumping duty investigation on honey from China would be likely to lead to continuation or recurrence of dumping and of material injury to a domestic industry. On July 28, 2000, the Department of Commerce published notice that it was revoking the order “[b]ecause no domestic party responded to the sunset review notice of initiation * * * by the applicable deadline” (65 FR 46426). Accordingly, pursuant to section 751(c) of the Tariff Act of 1930 (19 U.S.C. 1675(c)), the subject review is terminated.

EFFECTIVE DATE: July 28, 2000.

FOR FURTHER INFORMATION CONTACT: Vera Libeau (202-205-3176), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov).

Authority: This review is being terminated under authority of title VII of the Tariff Act of 1930; this notice is published pursuant to § 207.69 of the Commission's rules (19 CFR 207.69).

By order of the Commission.
Issued: July 31, 2000.
Donna R. Koehnke,
Secretary.

[FR Doc. 00-20109 Filed 8-8-00; 8:45 am]

BILLING CODE 7020-02-P